DEPARTMENT OF ENERGY

Federal Energy Regulatory Commission

[Project No. 516-459]

South Carolina Electric and Gas Company, South Carolina; Notice of Availability of Environmental Assessment

March 24, 2010.

In accordance with the National Environmental Policy Act of 1969 and the Federal Energy Regulatory Commission's (Commission or FERC's) regulations, 18 Code of Federal Regulations (CFR) Part 380 (Order No. 486, 52 FR 47897), the Office of Energy Projects has reviewed South Carolina Electric and Gas Company's application for license for the Saluda Hydroelectric Project (FERC Project No. 516), located on Saluda River in Richland, Lexington, Saluda, and Newberry counties, near Columbia, South Carolina. The project does not occupy any Federal lands.

Staff prepared a draft environmental assessment (EA), which analyzes the potential environmental effects of relicensing the project, and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov; toll-free at 1-866-208-3676, or for TTY, 202-502-8659.

You may also register online at http://www.ferc.gov/docs-filing/esubscription.asp to be notified via e-mail of new filings and issuances related to this or other pending projects. For assistance, contact FERC Online Support.

Any comments should be filed within 45 days from the date of this notice and be addressed to: Kimberly D. Bose, Secretary, Federal Energy Regulatory Commission, 888 First Street, NE., Washington, DC 20426. Please affix Project No. 516 to all comments. Comments may be filed electronically via the Internet in lieu of paper. The Commission strongly encourages electronic filings. See 18 CFR 385.2001(a)(1)(iii) and the instructions on the Commission's Web site (http://www.ferc.gov) under the “e-Filing” link.

For further information, contact Lee Emery by telephone at (202) 502-8379, or by e-mail at lee.emery@ferc.gov.

Kimberly D. Bose,
Secretary.

[FR Doc. 2010-7148 Filed 3-30-10; 8:45 am]

BILLING CODE 6717-01-P